DEPARTMENT OF ENERGY

Federal Energy Regulatory Commission

[Docket No. RP03-284-000]

Williston Basin Interstate Pipeline Company; Notice of Tariff Filing

March 5, 2003.

Take notice that on February 28, 2003, Williston Basin Interstate Pipeline Company (Williston Basin), P.O. Box 5601, Bismarck, North Dakota 58506-5601, tendered for filing certain revised tariff sheets to Original Volume No. 2 of its FERC Gas Tariff.

Williston Basin states that the revised tariff sheets are being filed pursuant to the Service Agreement applicable to Rate Schedule X-13 service between Williston Basin and Northern States Power Company. Williston Basin explains that the rate for firm transportation hereunder has been restated to reflect the fifth biennial restatement under the terms of the Service Agreement; and the restated rate reflects a reservation charge of $15.43543 per Mcf per month, excluding applicable surcharges.

Williston Basin has requested that the Commission accept this filing to become effective March 1, 2003.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 12, 2003.

Magalie R. Salas,
Secretary.

[FR Doc. 03-5825 Filed 3-11-03; 8:45 am]

BILLING CODE 6717-01-P